FEDERAL COMMUNICATIONS COMMISSION

47 CFR Parts 73 and 74

[MM Docket No. 95-31, FCC 00-120]

Reexamination of Comparative Standards for Noncommercial Educational Applicants

AGENCY: Federal Communications Commission.

ACTION: Final rule; announcement of effective date.

SUMMARY: The Commission adopted new rules for selecting among mutually exclusive applicants for noncommercial educational broadcast stations. Certain rules contained new and modified information collection requirements and were published in the Federal Register on June 8, 2000. This document announces the effective date of these published rules.

DATES: Effective August 1, 2000 with respect to the amendments to §§ 73.202, 73.3527, and 77.3572 published at 65 FR 36375 (June 8, 2000).

FOR FURTHER INFORMATION CONTACT: Irene Bleiweiss, Mass Media Bureau, Audio Services Division, (202) 418-2700.

SUPPLEMENTARY INFORMATION: On August 1, 2000, the Office of Management and Budget (OMB) approved the information collection requirements contained in Sections 73.202; 73.3527; and 73.3572 pursuant to OMB Control Nos. 3060-0948. Accordingly, the information collection requirements contained in these rules became effective on August 1, 2000.

Federal Communications Commission.
William F. Caton,
Deputy Secretary.

[FR Doc. 01-1308 Filed 1-16-01; 8:45 am]

BILLING CODE 6712-01-U